DEPARTMENT OF ENERGY

Federal Energy Regulatory Commission

Combined Notice of Filings #1

Take notice that the Commission received the following electric rate filings:

Docket Number: ER17-405-000, ER17-406-000.

Applicants: American Electric Power Service Corporation, PJM Interconnection, L.L.C.

Description: Supplement to November 22 PJM Interconnection, L.L.C. rate filing.

Filed Date: 1/9/17.

Accession Number: 20170109-5351.

Comments Due: 5 p.m. ET 1/30/17.

Docket Number: ER17-779-000.

Applicants: California Independent System Operator Corporation.

Description: Compliance filing: 2017-01-11 Petition for Limited Waiver of RAAIM Advisory Period to be effective N/A.

Filed Date: 1/11/17.

Accession Number: 20170111-5148.

Comments Due: 5 p.m. ET 1/23/17.

Docket Number: ER17-781-000.

Applicants: NorthWestern Corporation.

Description: Notice of Cancellation of Multiple Inactive Service Agreements and Rate Schedules of NorthWestern Corporation.

Filed Date: 1/11/17.

Accession Number: 20170111-5169.

Comments Due: 5 p.m. ET 2/1/17.

Docket Number: ER17-782-000.

Applicants: New York Independent System Operator, Inc.

Description: Order No. 825 Compliance Filing of New York Independent System Operator, Inc.

Filed Date: 1/11/17.

Accession Number: 20170111-5173.

Comments Due: 5 p.m. ET 2/1/17.

Docket Number: ER17-783-000.

Applicants: Wabash Valley Power Association, Inc.

Description: § 205(d) Rate Filing: Revisions to Formulary Rate Tariff to be effective 3/12/2017.

Filed Date: 1/12/17.

Accession Number: 20170112-5055.

Comments Due: 5 p.m. ET 2/2/17.

Docket Number: ER17-784-000.

Applicants: PJM Interconnection, L.L.C.

Description: § 205(d) Rate Filing: Queue Position AB2-010/AB2-011, Original Service Agreement No. 4601 to be effective 12/13/2016.

Filed Date: 1/12/17.

Accession Number: 20170112-5120.

Comments Due: 5 p.m. ET 2/2/17.

Docket Number: ER17-785-000.

Applicants: Southern California Edison Company.

Description: § 205(d) Rate Filing: Amended LGIA AltaGas Sonoran Energy Inc. to be effective 3/14/2017.

Filed Date: 1/12/17.

Accession Number: 20170112-5143.

Comments Due: 5 p.m. ET 2/2/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 12, 2017.
Kimberly D. Bose,
Secretary.

[FR Doc. 2017-01135 Filed 1-18-17; 8:45 am]

BILLING CODE 6717-01-P